DEPARTMENT OF COMMERCE

National Oceanic and Atmospheric Administration

Proposed Information Collection; Comment Request; Alaska Region Bering Sea and Aleutian Islands Crab Economic Data Reports

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 6, 2019.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Gabrielle Aberle, NOAA's National Marine Fisheries Service, P.O. Box 21668, Juneau, AK 99802-1668, Telephone (907) 586-7228.

SUPPLEMENTARY INFORMATION:

I. Abstract

This request is for extension of a currently approved information collection.

The Bering Sea and Aleutian Island Crab Rationalization Program (CR Program) is a limited access privilege program managed under the authority of the Magnuson-Stevens Fishery Conservation and Management Act (Magnuson-Stevens Act), the Consolidated Appropriations Act of 2004 (Public Law 108-199, Sec. 801), and the Fishery Management Plan for Bering Sea/Aleutian Islands King and Tanner Crab (FMP). The CR Program allocates crab among harvesters, processors, Western Alaska Community Development Quota groups, and coastal communities for nine crab fisheries. The CR Program also includes a comprehensive economic data collection program requiring participants to complete annual Economic Data Reports (EDRs). These EDRs are intended to aid the North Pacific Fishery Management Council (Council) and NOAA's National Marine Fisheries Service (NMFS) to assess the performance of the CR Program and to develop amendments to the FMP or regulations to mitigate any unintended consequences of the CR Program.

NMFS has designated Pacific States Marine Fisheries Commission (PSMFC) as the Data Collection Agent for the CR Program. NMFS and PSMFC administer the crab EDR program under the guidance of the Council. The crab EDR program collects annually reported cost, revenue, ownership, and employment data from harvest and processing sector participants in the CR Program fisheries. This information is necessary to monitor and assess the economic effects of the CR Program and support rigorous economic analysis to promote the goals and objectives of the Magnuson-Stevens Act and the FMP.

Participation in the crab EDR program is mandatory under Federal fisheries regulations at 50 CFR 680.6 for all active vessel and processing sector participants in the CR Program fisheries.

This information collection contains the three EDRs used by participants in the CR Program: Catcher Vessel Crab EDR, Catcher/Processor Crab EDR, and Processor Crab EDR. An EDR is required from any owner or leaseholder of a vessel or processing plant, or a holder of a registered crab receiver permit that harvested, processed, custom processed, or obtained custom processing for CR crab in specified BSAI crab fisheries during the prior calendar year. The EDRs are submitted annually and are due on or before July 31 of the following year. The information collection also includes information required to be submitted for audits to verify data submitted by respondents. Additional information on the crab EDR program is available on the PSFMC website at http://www.psmfc.org/alaska_crab/.

II. Method of Collection

The EDRs may be submitted online, by mail, or by fax. PSMFC mails EDR announcements and filing instructions to respondents by the end of May each year. Respondents are encouraged to complete the forms online on the PSMFC website at http://www.psmfc.org/alaska_crab/. EDR forms also are available on the PSFMC website as a fillable PDF; these may be downloaded, printed, and mailed or faxed to PSMFC.

III. Data

OMB Control Number: 0648-0518.

Form Number(s): None.

Type of Review: Regular submission (extension of a current information collection).

Affected Public: Business or other for-profit organizations; Not-for-profit organizations.

Estimated Number of Respondents: 99.

Estimated Time per Response: 20 hours each for full Catcher Vessel Crab EDR and full Catcher/Processor Crab EDR; 16 hours for full Processor Crab EDR; 2 hours each for certification-only Catcher Vessel Crab EDR, certification-only Catcher/Processor Crab EDR, and certification-only Processor Crab EDR; and 8 hours for Verification of Data. These estimates are based on the most recent supporting statement prepared for this EDR information collection in 2018. This supporting statement is available on NOAA's Paperwork Reduction Act web page at https://www.cio.noaa.gov/itmanagement/pdfs/0518Ext16.pdf.

Estimated Total Annual Burden Hours: 2,624 hours.

Estimated Total Annual Cost to Public: $318,414 in recordkeeping and reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Clearance Officer, Office of Chief Information Officer, Commerce Department.

[FR Doc. 2019-04103 Filed 3-6-19; 8:45 am]

BILLING CODE 3510-22-P